DEPARTMENT OF THE INTERIOR

Bureau of Land Management

[ES-920-1430-PM]

Notice of Final Supplementary Rules for Visitor Use and Permits at Meadowood Special Recreation Management Area—Bureau of Land Management, Eastern States, Springfield, VA

AGENCY: Bureau of Land Management, Interior.

ACTION: Notice of Final Supplementary Rules.

SUMMARY: In accordance with the Meadowood Integrated Activity Plan, the Bureau of Land Management, Eastern States Office (BLM-ES) implements these final supplementary rules which include certain rules of conduct and other limitations on public lands administered by BLM-ES. These final supplementary rules implement the management decisions made in the Meadowood Farm Proposed Management Program Analysis/Environmental Assessment and the Meadowood Integrated Activity Plan for the Meadowood Special Recreation Management Area. These final supplementary rules will protect natural resources and provide for the safety of visitors and property on public lands located within the boundaries of the Meadowood Special Recreation Management Area (MSRMA) in Fairfax County, Virginia.

DATES: These final supplementary rules are effective February 16, 2007.

ADDRESSES: You may send inquiries or suggestions to Director, Eastern States Office, Bureau of Land Management, 7450 Boston Boulevard, Springfield, VA 22153.

FOR FURTHER INFORMATION CONTACT: Jeff McCusker, Outdoor Recreation Planner at 703-339-3463. Individuals who use a telecommunications device for the deaf may contact Mr. McCusker through the Federal Information Relay Service at 1-800-877-8339.

SUPPLEMENTARY INFORMATION:

I. Background

On Thursday, July 28, 2005, BLM published a Notice of Proposed Supplementary Rules for the Meadowood Special Recreation Management Area (MSRMA), Fairfax County, VA (70 FR 43707). The BLM received no comments on the document during the 30-day comment period. The BLM is now finalizing these supplementary rules for the MSRMA. When these supplementary rules become effective, the MSRMA will be fully open for the uses and purposes identified the Meadowood Farm Proposed Management Program Analysis/Environmental Assessment (PA/EA) and the Meadowood Integrated Activity Management Plan for the Meadowood SRMA including the following stipulations. These final supplementary rules also rescind the temporary closure of these lands that was published in the Federal Register on October 22, 2001 (66 FR 53431).

II. Final Rule

The BLM is implementing these final supplementary rules to finalize the management decisions made in the Meadowood Farm Management PA/EA and the Meadowood Integrated Activity Management Plan for the Meadowood SRMA. The BLM developed these plans through a series of public meetings, a 30-day comment period, and an appeal and protest period.

III. Procedural Matters

E.O. 12866 Regulatory Planning and Review: Clarity of the Regulations. These final supplementary rules are not a “significant regulatory action” as defined in section 3(f) of Executive Order 12866. These final supplementary rules do not constitute a significant regulatory action and are not subject to review by the Office of Management and Budget under Executive Order 12866. They will not have an effect of $100 million or more on the economy. They will not adversely affect in a material way the economy, productivity, competition, jobs, the environment, public health or safety, or state local, or Tribal governments or communities. The final supplementary rules will not create a serious inconsistency or otherwise interfere with an action taken or planned by another agency. They do not alter the budgetary effects of entitlements, grants, user fees, or loan programs or the rights or obligations of their recipients, or raise novel legal or policy issues. These final supplementary rules merely impose rules of conduct and impose other limitations on certain recreational activities on certain lands to protect natural resources and human health and safety.

Regulatory Flexibility Act. Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These final supplementary rules do not have an effect on business entities of any size. They merely impose reasonable restrictions on certain recreational activities on specific public lands to protect natural resources and the environment, and human health and safety. Therefore, BLM has determined under the RFA that these final supplementary rules would not have a significant economic impact on a substantial number of small entities.

Small Business Regulatory Enforcement Fairness Act (SBREFA). These final supplementary rules are not a “major rule” as defined at 5 U.S.C. 804(2) because they will not have an annual effect on the economy greater than $100 million, nor will they result in major cost or price increases for consumers, industries, government agencies, or regions. They do not constitute a “major rule” as defined at 5 U.S.C. 804(2) because they will not result in an annual effect on the economy of $100 million or more, in an increase in costs or prices, or insignificant adverse effects on competition, employment, investment, productivity, innovation, or on the ability of United States-based enterprises to compete with foreign based enterprises in domestic and export markets. These final supplementary rules merely impose reasonable restrictions on certain recreational activities on specific public lands to protect natural resources and the environment, and human health and safety.

Unfunded Mandates Reform Act. These final supplementary rules do not impose an unfunded mandate on state, local, or tribal governments or on the private sector of more than $100 million per year; nor do these final supplementary rules have a significant or unique effect on state, local, or tribal governments or the private sector. They merely impose reasonable restrictions on certain recreational activities on certain public lands to protect natural resources and the environment, and human health and safety. Therefore, the BLM is not required to prepare a statement containing the information required by the Unfunded Mandates Reform Act (2U.S.C. 1531 et seq.).

Executive Order 12630, Government Action and interference with Constitutionally Protected Pro. In accordance with Executive Order 12360, BLM has found that these final supplementary rules do not have significant takings implications. These final supplementary rules will merely impose reasonable restrictions on certain recreational activities on specific public lands to protect natural resources and the environment, and human health and safety. No takings of personal or real property will occur because of this final rule.

Executive Order 13132, Federalism. In accordance with Executive Order 13162, BLM finds that the final supplementary rules do not have sufficient federalism implications to warrant the preparation of a federalism summary impact statement. The rules do not have substantial direct effect on the States, on the relationship between the national government and the States, or on the distribution of power and responsibilities among the various levels of government. This final rule does not preempt state law.

Executive Order 13175, Consultation and Coordination with Indian Tribal Governments. In accordance with Executive Order 13175, BLM finds that these final rules will not result in significant changes to BLM policy and that Tribal Governments will not be unduly affected by these final supplementary rules. This rulemaking has no bearing on lands for which title is held in fee status by Indian tribes and U.S. Government-owned lands under the Bureau of Indian Affairs.

Executive Order 12988, Civil Justice Reform. In accordance with Executive Order 12988 the Department of the Interior's Office of the Solicitor has determined that this rule does not unduly burden the judicial system and meets the requirements of sections 3(a) and 3(b)(2) of Executive Order 12988.

Paperwork Reduction Act. BLM has determined this rulemaking does not contain any new information collection that the Office of Management and Budget must approve under the Paperwork Reduction Act of 1995 (44 U.S.C. 3501 et seq.).

National Environmental Policy Act. BLM prepared an Environmental Assessment (EA), “The Meadowood Farm Proposed Program Analysis/Environmental Assessment” and determined that these final supplementary rules would not constitute a major Federal action significantly affecting the quality of the human environment under Section 102(2)(C) of the National Environmental Policy Act of 1969 (NEPA), 42 U.S.C. 4332(2)(C). A detailed statement under NEPA is not required. The BLM has placed the EA and the Finding of No Significant Impact (FONSI) on file in the Administrative Record at the Bureau of Land Management, Eastern States Office, 7450 Boston Blvd. Springfield, VA 22153.

Executive Order 13211 Effects on the Nation's Energy Supply (Executive Order 13211). These final supplementary rules are a purely administrative regulatory action and have no implications under Executive Order 13211.

Clarity of the Final Supplementary Rules. Executive Order 12866 requires each agency to write regulations that are simple and easy to understand. The BLM invites your comments on how to make these regulations easier to understand, including answers to questions such as the following:

1. Are the requirements in the final supplementary rules clearly stated?

2. Do the final supplementary rules contain technical language or jargon that interferes with clarity?

3. Does the format of the final supplementary rules (grouping and order of sections, use of headings, paragraphing, etc.) aid or reduce their clarity?

4. Would the final supplementary rule be easier to understand if it was divided into more (but shorter) sections?

5. Is the description of the final supplementary rules in “Supplementary Information” section of this preamble helpful in making the final rules easier to understand?

Please send any comments you have on the clarity of the regulations to the Bureau of Land Management, Eastern States Office, 7450 Boston Blvd. Springfield, VA 22153.

Author: The principle author of these final supplementary rules is Jeff McCusker, Outdoor Recreation Planner, Bureau of Land Management, Eastern States Office, assisted by Cynthia Ellis, Office of Regulatory Affairs, Washington, DC.

These final supplementary rules implement the management decisions made in the Meadowood Farm Proposed Management Program Analysis/Environmental Assessment and the Meadowood Integrated Activity Plan for the Meadowood Special Recreation Management Area. These final supplementary rules will protect natural resources and provide for the safety of visitors and property on public lands located within the boundaries of the Meadowood Special Recreation Management Area (MSRMA) in Fairfax County, Virginia. Accordingly, for the reasons stated above and under the authorities for supplementary rules found in 43 CFR 8341.2, 8364.1, and 8365.1-6, and 43 U.S.C. 1740, the State Director, Bureau of Land Management, Eastern States Office, issues these final supplementary rules for public lands managed by the BLM in the Lower Potomac Field Stations to read as follows:

Final Supplementary Rules for Certain Public Lands Managed by the Lower Potomac Field Station Office, Bureau of Land Management

Unless otherwise authorized by the Field Station Manager, the following acts are prohibited within the Meadowood Special Recreation Management Area (MSRMA) boundary:

1. You must not hunt unless you are participating in a managed hunt following Commonwealth of Virginia hunting regulations, and planned by the Bureau of Land Management (BLM).

2. You must not use fireworks or explosive devices.

3. You must not enter the MSRMA between sunset and sunrise.

4. You must not swim or bathe in the ponds or streams.

5. You must not operate motorized vehicles or devices in the MSRMA except on the following established roads:

a. From Old Colchester Road to the control line flying circles in the west parcel.

b. From Belmont Boulevard to the visitor parking area.

c. From Gunston Road to the parking areas at the horse barn and the BLM compound.

6. You must not enter the fenced pastures at 10406 Gunston Road unless you have a contract or other written permission from the BLM to board or maintain horses at the property.

7. You must not enter into any area posted as closed to entry or use.

8. You must not camp.

9. You must not use a bicycle on the property, except on the roads listed above in rule 5 unless it is on a designated bicycle trail.

10. You must not store fuel or accelerants.

11. You must not use control line model airplanes outside of designated times and places.

12. You must not use model rockets or explosive devices.

13. You must not use or possess weapons, other than for permitted hunts planned by the BLM.

Exception for Official Use of Site. Federal, state, and local law enforcement officers, government employees, and BLM volunteers are exempt from these supplementary rules in the course of their official duties. Limitations on the use of motorized vehicles do not apply to emergency vehicles, fire suppression and rescue vehicles, law enforcement vehicles, and other vehicles performing official duties, or as approved by an authorized officer of the BLM.

Penalties

1. Violations of these supplementary rules are punishable as follows: By a sentence of incarceration not more than one year, and a fine as provided by law under 43 U.S.C. 1733(a); 43 CFR 8360.0-7. Such violation may also be subject to the enhanced fines provided for by 18 U.S.C. 3571.

2. You may also be subject to civil action for unauthorized use of the public lands or related waters and their resources, for violations of permit terms, conditions, or stipulations, or for uses beyond those allowed by the permit.

Sue E. Richardson,
Acting State Director, Eastern States Office.

[FR Doc. E7-515 Filed 1-16-07; 8:45 am]

BILLING CODE 4310-GJ-P